ENVIRONMENTAL PROTECTION AGENCY

[FRL-8468-7]

Good Neighbor Environmental Board

AGENCY: Environmental Protection Agency (EPA).

ACTION: Notice of meeting.

SUMMARY: Under the Federal Advisory Committee Act, Public Law 92463, EPA gives notice of a meeting of the Good Neighbor Environmental Board. The Board meets three times each calendar year at different locations along the U.S.-Mexico border and in Washington, DC. It was created by the Enterprise for the Americas Initiative Act of 1992. An Executive Order delegates implementing authority to the Administrator of EPA. The Board is responsible for providing advice to the President on environmental and infrastructure issues and needs within the States contiguous to Mexico. The statute calls for the Board to have representatives from U.S. Government agencies; the States of Arizona, California, New Mexico and Texas; tribal representation; and a variety of non-governmental officials. One purpose of this meeting is hear presentations on local environmental issues as well as the theme selected for the Board's Eleventh Report, natural disasters and the environment. The meeting also will include a public comment session and a business meeting on the second day. A copy of the meeting agenda will be posted at www.epa.gov/ocem/gneb.

DATES: The Good Neighbor Environmental Board will hold an open meeting on Wednesday, October 3, from 8:30 a.m. to 5:30 p.m. and Wednesday, October 4, from 8 a.m. to 12 noon. It will be preceded by a Board field trip on October 2 to learn about ranching and grazing environmental issues.

ADDRESSES: The meeting will be held in the Guadelupe/Soledad conference room of the Hotel Encanto De Las Cruces, 705 S. Telshor Blvd., Las Cruces, NM 88011. Telephone: (505) 522-4300. It is open to the public, with limited seating on a first-come, first-served basis.

FOR FURTHER INFORMATION CONTACT: Elaine Koerner, Designated Federal Officer, koerner.elaine@epa.gov, 202-564-2586, U.S. EPA, Office of Cooperative Environmental Management (1601M), 1200 Pennsylvania Avenue NW., Washington, DC 20460.

SUPPLEMENTARY INFORMATION: Requests to make brief oral comments or provide written statements to the Board should be sent to Elaine Koerner, Designated Federal Officer, at the contact information above.

Meeting Access: For information on access or services for individuals with disabilities, please contact Elaine Koerner at the contact information above. To request accommodation of a disability, please contact Elaine Koerner, preferable at least 10 days prior to the meeting, to give EPA as much time as possible to process your request.

Dated: August 31, 2007.
Elaine Koerner,
Designated Federal Officer.

[FR Doc. 07-4590 Filed 9-14-07; 8:45 am]

BILLING CODE 6560-50-M